FEDERAL COMMUNICATIONS COMMISSION

[FR ID 54929]

Open Commission Meeting Tuesday, October 26, 2021

October 19, 2021.

The Federal Communications Commission will hold an Open Meeting on the subjects listed below on Tuesday, October 26, 2021, which is scheduled to commence at 10:30 a.m. The Federal Advisory Committee Act requires that agencies publish notice of an advisory committee meeting in the Federal Register.

Disaster Communications Field Hearing

During the meeting, the Commission will also conduct a virtual field hearing on communications recovery and resiliency during disasters.

Due to the current COVID-19 pandemic and related agency telework and headquarters access policies, this meeting will be in a wholly electronic format and will be open to the public on the internet via live feed from the FCC's web page at www.fcc.gov/live and on the FCC's YouTube channel.

Item number | Bureau | Subject
1 | INTERNATIONAL | TITLE: National Security Item.
|  | SUMMARY: The Commission will consider a national security matter.
2 | MEDIA | TITLE: Updating Digital Television Table of Allotments. (GN Docket No. 12-268).
|  | SUMMARY: The Commission will consider an Order that will update the digital television Table of Allotments, and delete or revise rules rendered obsolete by the broadcast incentive auction and the digital television transition.
3 | WIRELINE COMPETITION | TITLE: Selecting Third Round of Applicants for Connected Care Pilot Program. (WC Docket No. 18-213).
|  | SUMMARY: The Commission will consider a Public Notice announcing the third round of selections for the Commission's Connected Care Pilot Program to provide Universal Service Fund support for health care providers making connected care services available directly to patients.
4 |  | TITLE: Disaster Communications Field Hearing.
|  | SUMMARY: The Commission will hear testimony about communications issues during and following Hurricane Ida and other recent disasters.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530. Additional information concerning this meeting may be obtained from the Office of Media Relations, (202) 418-0500. Audio/Video coverage of the meeting will be broadcast live with open captioning over the internet from the FCC Live web page at www.fcc.gov/live.

Federal Communications Commission.
Katura Jackson,
Federal Register Liaison Officer.

[FR Doc. 2021-23605 Filed 10-28-21; 8:45 am]

BILLING CODE 6712-01-P